DEPARTMENT OF HOMELAND SECURITY

Coast Guard

33 CFR Part 117

[Docket No. USCG-2015-1057]

Drawbridge Operation Regulation; Annisquam River and Blynman Canal, Gloucester, MA

AGENCY: Coast Guard, DHS.

ACTION: Notice of deviation from drawbridge regulation.

SUMMARY: The Coast Guard has issued a temporary deviation from the operating schedule that governs the Blynman (SR127) Bridge across the Annisquam River and Blynman Canal at mile 0.0 at Gloucester, MA. The deviation is necessary due to the inhabitability of the operator's house associated with a settling of the adjacent seawall resulting in a partial collapse of the house rendering the structure unsafe for occupancy. This deviation allows the bridge to be opened with a two hour advanced notice during the hours of 8 p.m. through 4 a.m. from January 1, 2016 through April 30, 2016.

DATES: This deviation is effective from 8 p.m. on January 1, 2016 through 4 a.m. April 30, 2016.

ADDRESSES: The docket for this deviation, [USCG-USCG-2015-1057] is available at http://www.regulations.gov. Type the docket number in the “SEARCH” box and click “SEARCH”. Click on Open Docket Folder on the line associated with this deviation.

FOR FURTHER INFORMATION CONTACT: If you have questions on this temporary deviation, call or email Mr. Scott White, First Coast Guard District Bridge Branch, Coast Guard; telephone 617-223-8364, email Scott.C.White@uscg.mil.

SUPPLEMENTARY INFORMATION: The Blynman (SR 127) Bridge across the Annisquam River and Blynman Canal, mile 0.0, at Gloucester, Massachusetts, has a vertical clearance in the closed position of 8.2 feet at mean high water and 16 feet at mean low water. The existing bridge operating regulations are found at 33 CFR 117.586.

The owner of the bridge, Massachusetts Department of Transportation, requested a temporary deviation from the normal operating schedule to open on signal after at least a two hour advance notice is provided between the hours of 8 p.m. to 4 a.m. for the period of January 1, 2016 through April 30, 2016.

The waterways are transited primarily by seasonal recreation vessels of various sizes. Historical records indicate infrequent requests for openings occur during this timeframe. Vessels able to pass through the bridge in the closed position may do so at anytime. The bridge will not be able to open for emergencies however the northern entrance to the Annisquam River can be used as an alternate route for vessels unable to pass through the bridge in closed positions. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: December 21, 2015.
C.J. Bisignano,
Supervisory Bridge Management Specialist, First Coast Guard District.

[FR Doc. 2015-32446 Filed 12-23-15; 8:45 am]

BILLING CODE 9110-04-P